DEPARTMENT OF JUSTICE

Notice of Lodging of Consent Decree Under the Clean Air Act

Under 28 CFR 50.7, notice is hereby given that on November 17, 2005, a proposed consent decree in United States et al. v. Atlas Roofing Corporation, Case No. CV 05-8180JFW (RZx), was lodged with the United States District Court for the Central District of California.

In this action, the United State and the South Coast Air Quality Management District, (“SCAQMD”) sought injunctive relief and civil penalties under Section 113 of the Clean Air Act and Cal. Health & Safety Code §§ 42401, 42402.1 against Atlas Roofing Corporation (“Atlas”) at its expanded polystyrene (“EPS”) foam manufacturing facility in Los Angeles, California, for: (1) Failure to demonstrate that the emission control system at the facility complied with SCAQMD Rule 1175, a part of the California State Implementation Plan; (2) failure to comply with a permit condition limiting the pentane content of the polystyrene beads used at the facility; (3) failure to comply with a permit condition regarding the operation of the control device; (4) violation of SCAQMD Hearing Board's Order limiting the pentane content of the polystyrene beads; and (5) violation of SCAQMD Hearing Board's Order for Abatement regarding the operation of the control device. The consent decree requires Atlas to: (1) Pay a civil penalty of $221,400 to the United States; (2) pay a civil penalty of $147,000 to SCAQMD; and (3) cease all EPS foam operations regulated by SCAQMD 1175 at the facility by December 31, 2005.

The Department of Justice will receive for a period of thirty (30) days from the date of this publication comments relating to the consent decree. Comments should be addressed to the Assistant Attorney General, Environment and Natural Resources Division, P.O. Box 7611, U.S. Department of Justice, Washington, D.C. 20044-7611, with a copy to Ann Hurley, U.S. Department of Justice, 301 Howard Street, Suite 1050, San Francisco, CA 94105, and should refer to United States et al. v. Atlas Roofing Corporation, D.J. Ref. #90-5-2-1-08415.

The consent decree may be examined at U.S. EPA Region 9, Office of regional Counsel, 75 Hawthorne Street, San Francisco, California. During the public comment period, the consent decree may also be examined on the following Department of Justice Web site: http://www.usdoj.gov/enrd/open.html. A copy of the consent decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S Treasury.

Ellen M. Mahan,
Assistant Chief, Environmental Enforcement Section, Environment and Natural Resources Division.

[FR Doc. 05-23743 Filed 12-7-05; 8:45 am]

BILLING CODE 4410-15-M